DEPARTMENT OF TRANSPORTATION

Federal Aviation Administration

14 CFR Part 39

[Docket No. FAA-2005-21748; Directorate Identifier 2005-NM-071-AD]

RIN 2120-AA64

Airworthiness Directives; Boeing Model 767-200 and -300 Series Airplanes

AGENCY: Federal Aviation Administration (FAA), Department of Transportation (DOT).

ACTION: Notice of proposed rulemaking (NPRM).

SUMMARY: The FAA proposes to adopt a new airworthiness directive (AD) for certain Boeing Model 767-200 and -300 series airplanes. For certain airplanes, this proposed AD would require repetitive inspections for discrepancies of the tube assemblies and insulation of the metered fire extinguisher system and the bleed air duct couplings of the auxiliary power unit (APU) located in the aft cargo compartment; and corrective actions if necessary. For certain other airplanes, this proposed AD would require a one-time inspection for sufficient clearance between the fire extinguishing tube and the APU bleed air duct in the aft cargo compartment, and modification if necessary. This proposed AD is prompted by one report indicating that an operator found a hole in the discharge tube assembly for the metered fire extinguishing system; and another report indicating that an operator found chafing of the fire extinguishing tube against the APU duct that resulted in a crack in the tube. We are proposing this AD to prevent fire extinguishing agent from leaking out of the tube assembly in the aft cargo compartment which, in the event of a fire in the aft cargo compartment, could result in an insufficient concentration of fire extinguishing agent, and consequent inability of the fire extinguishing system to suppress the fire.

DATES: We must receive comments on this proposed AD by August 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2005-21748; the directorate identifier for this docket is 2005-NM-071-AD.

FOR FURTHER INFORMATION CONTACT: Marcia Smith, Aerospace Engineer, Cabin Safety and Environmental Systems Branch, ANM-150S, FAA, Seattle Aircraft Certification Office, 1601 Lind Avenue, SW., Renton, Washington 98055-4056; telephone (425) 917-6484; fax (425) 917-6590.

SUPPLEMENTARY INFORMATION:

Comments Invited

We invite you to submit any relevant written data, views, or arguments regarding this proposed AD. Send your comments to an address listed under ADDRESSES. Include “Docket No. FAA-2005-21748; Directorate Identifier 2005-NM-071-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We have received a report indicating that an operator found a hole in the discharge tube assembly for the metered fire extinguishing system in the aft cargo compartment at station (STA) 1197, on a Model 767-300 series airplane. The hole in the tube assembly was the result of a chafing condition between an auxiliary power unit (APU) bleed air duct coupling and the tube assembly. The tube assembly was attached to the stanchion, approximately 1.75 inches below the correct location. The operator also found incorrect installation of the tube assembly on three additional airplanes. Another report was received indicating that an operator found chafing of the fire extinguishing tube against the APU duct on a Model 767-300ER series airplane, resulting in a crack in the tube at STA 1357. A crack or hole in the tube could allow leakage of the fire extinguishing agent into an area outside the cargo compartment in the case of an aft cargo fire. In the event of a fire in the aft cargo compartment, these conditions could result in an insufficient concentration of fire extinguishing agent, and consequent inability of the fire extinguishing system to suppress the fire.

Relevant Service Information

We have reviewed Boeing Alert Service Bulletin 767-26A0123, dated August 22, 2002. The service bulletin describes procedures for an inspection for sufficient clearance between the fire extinguishing tube and the APU bleed air duct on the left sidewall from STA 1355 to STA 1365; and modification of the fire extinguishing tube assembly if necessary.

Service Bulletin 767-26A0123 refers to Boeing Service Bulletin 767-26-0118, Revision 2, dated December 21, 2004, as the appropriate source of service information for accomplishing the modification of the fire extinguishing tube assembly. The modification involves replacing one fire extinguishing tube assembly with two fire extinguishing tube assemblies and support provisions, and doing a functional test of the aft metered discharge line.

We have also reviewed Boeing Alert Service Bulletin 767-26A0130, dated December 2, 2004. The service bulletin divides the affected airplanes into Groups 1 and 2, and describes procedures for repetitive detailed inspections for discrepancies of the tube assemblies and insulation of the metered fire extinguishing system in the aft cargo compartment; repetitive general visual inspections for discrepancies of the APU bleed air duct couplings and the tube assemblies of the fire extinguisher in the aft cargo compartment; and corrective actions if necessary. The station locations for the inspections vary, depending on the airplane group specified in the service bulletin. The service bulletin also describes procedures for a functional test.

The discrepancies include signs of chafing or contact between the fire extinguisher tube assemblies, the APU bleed air duct couplings support provisions, and the insulation; loose duct couplings; and incorrect placement of the tube assembly support provisions, and/or the duct couplings.

The corrective actions include repairing or replacing any damaged tube assembly with a new assembly; replacing any damaged insulation with new insulation; applying the correct torque to any loose duct couplings; and moving tube assemblies and/or duct couplings to the correct location.

The installation of tube assemblies in the correct location eliminates the need for the repetitive inspections, provided initial inspections and any necessary corrective actions have been done.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in Service Bulletin 767-26A0123 and Service Bulletin 767-26A0130, described previously, except as discussed under “Difference Between the Proposed AD and Service Information.”

Differences Between the Proposed AD and Service Information

Service Bulletin 767-26A0123 recommends that the actions therein be accomplished “as soon as manpower, materials, and facilities are available.” We find that such a non-specific compliance time may not ensure that the proposed actions are accomplished in a timely manner. In developing an appropriate compliance time for these actions, we considered the safety implications, operators' normal maintenance schedules, and the compliance time recommended by the airplane manufacturer. In consideration of these items, we have determined that within 24 months or 8,000 flight hours, whichever is first, represents an appropriate interval of time wherein the proposed actions can be accomplished during scheduled maintenance intervals for the majority of affected operators, and an acceptable level of safety can be maintained. This compliance time is consistent with the recommendation of the airplane manufacturer.

Service Bulletin 767-26A0123 recommends concurrently accomplishing the service bulletins specified in the table in paragraph 1.B., titled “Concurrent Requirements,” for Group 2 airplanes; however, this proposed AD would not include that requirement. The concurrent service bulletins describe procedures for installing a metered fire extinguishing system, but this proposed AD is only applicable to airplanes that already have that system installed.

These differences have been coordinated with the manufacturer.

Clarification of Inspection Type

Service Bulletin 767-26A0123 refers only to an “inspection” for sufficient clearance between the fire extinguishing tube and the APU duct. We have determined that the procedures in the service bulletin should be described as a “general visual inspection.” A note has been included in this AD to define this type of inspection.

Costs of Compliance

There are about 734 airplanes of the affected design in the worldwide fleet. This proposed AD would affect about 281 airplanes of U.S. registry.

The proposed inspection specified in Service Bulletin 767-26A0123 would take about 1 work hour per airplane, at an average labor rate of $65 per work hour. Based on these figures, the estimated cost of the proposed inspection for U.S. operators is $18,265, or $65 per airplane.

The proposed inspections specified in Service Bulletin 767-26A0130 would take about 2 work hours per airplane, at an average labor rate of $65 per work hour. Based on these figures, the estimated cost of the proposed inspections for U.S. operators is $36,530, or $130 per airplane, per inspection cycle.

The proposed functional test specified in Service Bulletin 767-26A0130 would take about 1 work hour per airplane, at an average labor rate of $65 per work hour. Based on these figures, the estimated cost of the proposed functional test for U.S. operators, is $18,265, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part a, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21748; Directorate Identifier 2005-NM-071-AD.

Comments Due Date

(a) The Federal Aviation Administration (FAA) must receive comments on this AD action by August 22, 2005.

Affected ADs

(b) None.

Applicability

(c) This AD applies to Boeing Model 767-200 and -300 series airplanes; certificated in any category; as specified in paragraphs (c)(1), (c)(2), and (c)(3) of this AD.

(1) Airplanes identified in Boeing Alert Service Bulletin 767-26A0130, dated December 2, 2004.

(2) Group 1 airplanes identified in Boeing Alert Service Bulletin 767-26A0123, dated August 22, 2002.

(3) Group 2 airplanes identified in Boeing Alert Service Bulletin 767-26A0123, dated August 22, 2002, on which the applicable service bulletin specified in the table in paragraph 1.B., titled “Concurrent Requirements” has been accomplished.

Unsafe Condition

(d) This AD was prompted by one report indicating that an operator found a hole in the discharge tube assembly for the metered fire extinguishing system; and another report indicating that an operator found chafing of the fire extinguishing tube against the auxiliary power unit (APU) duct that resulted in a crack in the tube. We are issuing this AD to prevent fire extinguishing agent from leaking out of the tube assembly in the aft cargo compartment which, in the event of a fire in the aft cargo compartment, could result in an insufficient concentration of fire extinguishing agent, and consequent inability of the fire extinguishing system to suppress the fire.

Compliance

(e) You are responsible for having the actions required by this AD performed within the compliance times specified, unless the actions have already been done.

Repetitive Inspections

(f) Within 24 months or 8,000 flight hours after the effective date of this AD, whichever is first: Accomplish the actions required by paragraphs (f)(1) and (f)(2) of this AD, as applicable.

(1) For airplanes identified in Boeing Alert Service Bulletin 767-26A0130, dated December 2, 2004: Perform general visual and detailed inspections for discrepancies of the tube assemblies and insulation of the metered fire extinguisher system and the bleed air duct couplings of the APU located in the aft cargo compartment and any applicable corrective actions and functional test, by doing all the applicable actions specified in the Accomplishment Instructions of Boeing Alert Service Bulletin 767-26A0130, dated December 2, 2004. Do any applicable corrective actions before further flight in accordance with the service bulletin. Repeat the inspections thereafter at intervals not to exceed 24 months or 8,000 flight hours, whichever is first. Installation of the tube assembly in the correct location, in accordance with the service bulletin, terminates the repetitive inspections for that assembly only.

(2) For airplanes identified in Boeing Alert Service Bulletin 767-26A0123, dated August 22, 2002: Perform a general visual inspection for sufficient clearance between the fire extinguishing tube and the APU duct on the left sidewall from station 1355 through 1365 inclusive, and do any applicable modification, by doing all the actions specified in the Accomplishment Instructions of Boeing Alert Service Bulletin 767-26A0123, dated August 22, 2002. Do any applicable modification before further flight.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance (AMOCs)

(g) The Manager, Seattle Aircraft Certification Office, FAA, has the authority to approve AMOCs for this AD, if requested in accordance with the procedures found in 14 CFR 39.19.

Issued in Renton, Washington, on June 29, 2005.
Kevin M. Mullin,
Acting Manager, Transport Airplane Directorate, Aircraft Certification Service.

[FR Doc. 05-13433 Filed 7-7-05; 8:45 am]

BILLING CODE 4910-13-P